DEPARTMENT OF TRANSPORTATION

National Highway Traffic Safety Administration

[Docket No. NHTSA-2013-0040; Notice 1]

General Motors, LLC, Receipt of Petition for Decision of Inconsequential Noncompliance

AGENCY: National Highway Traffic Safety Administration, DOT.

ACTION: Receipt of Petition.

SUMMARY: General Motors, LLC (GM) has determined that certain model year (MY) 2013 Chevrolet Cruze, Chevrolet Volt, and Buick Verano passenger cars manufactured between November 15, 2012 and January 11, 2013, do not fully comply with paragraph S4.2.6 of Federal Motor Vehicle Safety Standard (FMVSS) No. 202a, Head Restraints; Mandatory Applicability Begins on September 1, 2009. GM has filed an appropriate report dated February 15, 2013, pursuant to 49 CFR part 573, Defect and Noncompliance Responsibility and Reports.

DATES: November 27, 2013.

ADDRESSES: Interested persons are invited to submit written data, views, and arguments on this petition. Comments must refer to the docket and notice number cited at the beginning of this notice and be submitted by any of the following methods:

• Mail: Send comments by mail addressed to: U.S. Department of Transportation, Docket Operations, M-30, West Building Ground Floor, Room W12-140, 1200 New Jersey Avenue SE., Washington, DC 20590.

• Hand delivery: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION: I. GM's Petition: Pursuant to 49 U.S.C. 30118(d) and 30120(h) (see implementing rule at 49 CFR part 556), GM submitted a petition for an exemption from the notification and remedy requirements of 49 U.S.C. Chapter 301 on the basis that this noncompliance is inconsequential to motor vehicle safety.

This notice of receipt of GM's petition is published under 49 U.S.C. 30118 and 30120 and does not represent any agency decision or other exercise of judgment concerning the merits of the petition.

II. Vehicles Involved: Affected are approximately 32,838 MY 2013 Chevrolet Cruze, Chevrolet Volt, and Buick Verano passenger cars manufactured between November 15, 2012 and January 11, 2013.

III. Noncompliance: GM explains that the noncompliance is that between 8 and 12 percent of the affected vehicles have rear outboard head restraints that do not meet the height retention requirements specified in paragraph S4.2.6 of FMVSS No. 202a.

GM further explained that the noncompliance is the result of a notch in one of the two head restraint rods not being machined to specifications. This notch corresponds to the rear head restraint's highest adjustment position. This condition does not affect the ability to lock the head restraint in the middle or lowest positions. Nor does it make the head restraint capable of being more easily removed.

IV. Rule Text: Paragraph S4.2.6 of FMVSS 202a specifically states:

S4.2.6 Height retention. When tested in accordance with S5.2.6 of this section, the cylindrical test device specified in S5.2.6(b) must return to within 13 mm of its initial reference position after application of at least a 500 N load and subsequent reduction of the load to 50 N ±1 N. During application of the initial 50 N reference load, as specified in S5.2.6(b)(2) of this section, the cylindrical test device must not move downward more than 25 mm.

V. Summary of GM's Analysis: GM stated its belief that the subject noncompliance is inconsequential to motor vehicle safety for the following reasons:

The root cause of the condition was determined to be a change made by a machine operator which reduced the clamping force in the operation that cuts the notches in the head restraint rod, slightly altering the shape of the notch. Restraints with the altered notch have a lower retention force than design intent.

The retention force for the head restraints with the improperly machined notch was measured as approximately 150 N.

GM recognizes that one of NHTSA's concerns was improper positioning of head restraints due to the head restraint moving out of position either during normal vehicle use or in a crash, as stated in the FMVSS No. 202a NPRM (January 4, 2001, 66 FR 979).

For everyday use, with the adjustment button depressed, these head restraints are designed to move down with a force of 40±20N. The measured retention force for the improperly machined notch is nearly 4 times the nominal adjustment force and 2.5 times the maximum. Without the button depressed, these head restraints will not “slip” or easily move down from the top adjustment position. For most, it would take a deliberate two-handed action to cause the restraint to move from the top to the mid position without activating the release button. The tactile feedback from such forced movement would be clear indication that it is not the correct method for adjusting the restraint. The opportunity for inadvertent misadjustment of the restraint is also diminished due to the fact that these are rear seat head restraints with no seating positions behind them. They are not at risk for misadjustment as a result of someone bumping or grabbing the restraint for assistance during vehicle ingress and egress.

FMVSS No. 202a provides two compliance options for head restraints. They are Paragraph S4.2 (Dimensional and Static Performance) or paragraph S4.3 (Dynamic Performance and Width). As with most of its vehicles, GM chose to certify the rear seat head restraints for the 2013 Cruze, Verano and Volt, to S4.2 (the “static option”) and the front head restraints to S4.3 (the “dynamic option”)

In order to evaluate the efficacy of the rear head restraints with the improperly machined notches, GM conducted a series of 6 sled tests at MGA Research. Two tests each were run for the Cruze, Volt and Verano. For each vehicle, one test was run according to the procedure specified by FMVSS No. 202a paragraph S4.3 which places the head restraint in the mid-position, and a second test was run in the same manner as the first test, but with the head restraint placed in the top position. The top position is that used in the height retention test of the static option, and that position is the one with the improperly machined notch. Improperly machined head restraints and corresponding rod guides were used for each test.

Significantly, in the three sled tests with the head restraint in the uppermost position, the head restraint did not move down. For all tests, the head restraint remained in its pretest height adjustment throughout the test. Also, in all sled tests (upper and mid position) the dummy met the injury criteria specified in the requirements for the dynamic option (<12 degree of neck rotation, <500 HIC) and head restraint width >170 mm.

GM's Arguments

GM believes that the subject noncompliance is inconsequential to motor vehicle safety because for the following reasons occupant protection is not compromised:

1. The noncompliant test vehicles meet the requirements specified under the dynamic compliance option 1 in all six sled tests. Therefore, GM believes that the improperly machined head restraint rod notches do not expose occupants to a significantly greater risk than those with properly machined notches.

2. The head restraints remained in their adjusted positions throughout the tests.

3. The occupant performance criteria specified for the dynamic compliance option was met in both the mid and upper head restraint adjustment positions.

4. These head restraints will maintain their adjusted positions during everyday use of the vehicle.

5. Paragraph S4.2.6 of FMVSS No. 202a allows 13 mm of permanent displacement of the head restraint. By design, the distance between the top and mid adjustment positions of the subject head restraints is 19 mm. Thus, the potential head restraint displacement due to the improperly machined notch is limited to 19 mm.

6. The owner's manual instructions continue to meet all the requirements of FMVSS No. 202a. Even though the head restraint could be forced down to the mid-position, it still requires substantially more effort than it does when the adjustment button at the base of the head restraint is depressed. The owner's manual instructions continue to be the recommended manner of adjustment.

7. GM is not aware of any injuries or customer complaints associated with this condition.

GM has additionally informed NHTSA that it has corrected the noncompliance so that all future production vehicles will comply with FMVSS No. 202a.

In summation, GM believes that the described noncompliance of its vehicles is inconsequential to motor vehicle safety, and that its petition, to exempt from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the 32,838 vehicles that GM no longer controlled at the time it determined that the noncompliance existed. However, any decision on this petition does not relieve vehicle distributors and dealers of the prohibitions on the sale, offer for sale, or introduction for delivery or introduction into interstate commerce of the noncompliant vehicles under their control after GM notified them that the subject noncompliance existed.

Authority: 49 U.S.C. 30118, 30120: delegations of authority at 49 CFR 1.95 and 501.8.

Claude H. Harris,
Director, Office of Vehicle Safety Compliance.

[FR Doc. 2013-25251 Filed 10-25-13; 8:45 am]

BILLING CODE 4910-59-P